DEPARTMENT OF DEFENSE

Department of the Navy

[Docket ID: USN-2021-HQ-0007]

Submission for OMB Review; Comment Request

AGENCY: Department of the Navy, Department of Defense (DoD).

ACTION: Emergency notice.

SUMMARY: Consistent with the Paperwork Reduction Act of 1995 and its implementing regulations, this document provides notice DoD is submitting an Information Collection Request to the Office of Management and Budget (OMB) to conduct a strategic level engagement survey of the Navy Active Duty population that addresses core measures relating to the health of the force and addresses emergent issues of interest to Navy leadership. This is a biennial survey, initiated in 2019, the results of which inform the Navy's Health of the Force Report to Congress, congressional testimony, as well as support program and policy assessments. A secondary goal of this survey is to minimize the number of unnecessary and potentially duplicative smaller surveys. DoD requests emergency processing and OMB authorization to collect the information after publication of this notice for a period of six months.

DATES: Comments must be received by August 19, 2021.

ADDRESSES: The Department has requested emergency processing from OMB for this information collection request by 1 day after publication of this notice. Interested parties can access the supporting materials and collection instrument as well as submit comments and recommendations to OMB at www.reginfo.gov/public/do/PRAMain. Find this particular information collection by selecting “Currently under 1-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This survey is targeted at Navy Active Component personnel to gather their input and opinions on key issues of interest to Navy leadership. A scripted briefing report documenting, in detail, the results of the survey will be completed and provided to all those organizations who provided input to the survey. An executive overview brief will be developed and provided to senior leadership. Results from the survey will also be incorporated into the Health of the Force report in November for release in January 2022.

Title; Associated Form; and OMB Number: Navy Health of the Force Survey; OMB Control Number 0703-NHFS.

Type of Request: Emergency.

Number of Respondents: 13,000.

Responses per Respondent: 1.

Annual Responses: 13,000.

Average Burden per Response: 25 minutes.

Annual Burden Hours: 5,417.

Affected Public: None.

Frequency: Biennial.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: August 13, 2021.
Aaron T. Siegel,
Alternate OSD Federal Register Liaison Officer, Department of Defense.

[FR Doc. 2021-17717 Filed 8-17-21; 8:45 am]

BILLING CODE 3810-FF-P